OFFICE OF NATIONAL DRUG CONTROL POLICY

Appointment of Members of Senior Executive Service Performance Review Board

AGENCY: Office of National Drug Control Policy.

ACTION: Notice of Appointments.

SUMMARY: The following persons have been appointed to the ONDCP Senior Executive Service Performance Review Board: Dr. Terry Zobeck (as Chair), Mr. Gerard Burns, Ms. Michele Marx, and Mr. Jeffrey Teitz.

FOR FURTHER INFORMATION CONTACT: Please direct any questions to Michael Passante, Deputy General Counsel (202) 395-6700, Office of National Drug Control Policy, Executive Office of the President, Washington, DC 20503.

Dated: August 28, 2014.
Michael Passante,
Deputy General Counsel.

[FR Doc. 2014-21121 Filed 9-4-14; 8:45 am]

BILLING CODE 3180-W1-P